DEPARTMENT OF ENERGY

Federal Energy Regulatory Commission

Combined Notice of Filings # 1

August 16, 2007.

Take notice that the Commission received the following electric corporate filings:

Docket Numbers: EC07-125-000.

Applicants: Calpine Acadia Holdings, LLC; Acadia Power Partners, LLC; Cajun Gas Energy, LLC.

Description: Acadia Power Partners, LLC et al submits a Joint Application for approval of Calpine Acadia Holdings, LLC submit indirect transfer of its existing interest in Acadia Power Partners, LLC to Cajun Gas Energy, LLC.

Filed Date: 08/08/2007.

Accession Number: 20070814-0050.

Comment Date: 5 p.m. Eastern Time on Wednesday, August 29, 2007.

Take notice that the Commission received the following electric rate filings:

Docket Numbers: ER04-839-002.

Applicants: MAG Energy Solutions, Inc.

Description: MAG Energy Solutions Inc submits its Triennial Updated Market Power Analysis and Revised Market-Based Rate Tariff.

Filed Date: 08/14/2007.

Accession Number: 20070815-0177.

Comment Date: 5 p.m. Eastern Time on Tuesday, September 04, 2007.

Docket Numbers: ER07-809-002.

Applicants: Florida Power Corporation.

Description: Florida Power Corp d/b/a Progress Energy Florida, Inc submits corrections to its 8/2/07 response to FERC's 6/21/07 deficiency letter.

Filed Date: 08/14/2007.

Accession Number: 20070815-0157.

Comment Date: 5 p.m. Eastern Time on Tuesday, September 04, 2007.

Docket Numbers: ER07-1161-001.

Applicants: Public Power & Utility, Inc.

Description: Public Power & Utility, Inc submits a petition for acceptance of FERC Electric Tariff, Original Volume 1.

Filed Date: 08/08/2007.

Accession Number: 20070813-0075.

Comment Date: 5 p.m. Eastern Time on Wednesday, August 29, 2007.

Docket Numbers: ER07-1180-001.

Applicants: California Independent System Operator Corporation.

Description: California Independent System Operator Corp submits an errata to their 7/20/07 filing of a petition to waive sanctions for violation of Section 31.1.4.1 of its Tariff through 10/18/06.

Filed Date: 08/09/2007.

Accession Number: 20070813-0082.

Comment Date: 5 p.m. Eastern Time on Thursday, August 30, 2007.

Docket Numbers: ER07-1207-001.

Applicants: Premier Energy Marketing LLC.

Description: Application of Premier Energy Marketing LLC for acceptance of Initial Rate Schedule, Waiver and Blanket Authority.

Filed Date: 08/14/2007.

Accession Number: 20070815-0176.

Comment Date: 5 p.m. Eastern Time on Tuesday, September 04, 2007.

Docket Numbers: ER07-1234-001.

Applicants: Upper Peninsula Power Company.

Description: Upper Peninsula Power Company submits an executed letter agreement with Escanaba Municipal Electric Utility memorializing the parties' understanding concerning sale to Escanaba of capacity on an emergency basis.

Filed Date: 08/10/2007.

Accession Number: 20070813-0165.

Comment Date: 5 p.m. Eastern Time on Friday, August 31, 2007.

Docket Numbers: ER07-1261-000.

Applicants: Midwest Stand-Alone Transmission Company.

Description: Post Transaction Period Compliance Filing and Superseding Rate Design Proposal of the Midwest Stand-Alone Transmission Companies and Wolverine Power Supply Coop, Inc.

Filed Date: 08/01/2007.

Accession Number: 20070814-0150.

Comment Date: 5 p.m. Eastern Time on Wednesday, August 22, 2007.

Docket Numbers: ER07-1281-000.

Applicants: CL Power Sales One, LLC.

Description: CL Power Sales One, LLC submits Notice of Cancellation of its FERC Electric Tariff, effective 10/13/07.

Filed Date: 08/14/2007.

Accession Number: 20070815-0030.

Comment Date: 5 p.m. Eastern Time on Tuesday, September 04, 2007.

Docket Numbers: ER07-1282-000.

Applicants: ISO New England, Inc.

Description: ISO New England, Inc submits Markets and Services Tariff, FERC Electric Tariff 3, Second Quarter of 2007, effective 7/1/07.

Filed Date: 08/14/2007.

Accession Number: 20070815-0029.

Comment Date: 5 p.m. Eastern Time on Tuesday, September 04, 2007.

Docket Numbers: ER07-1283-000.

Applicants: ISO New England, Inc.

Description: ISO New England and the New England Power Pool (NEPOOL) Participants Committee submit revised tariff sheets and supporting testimony of Marc Montalvo reflecting proposed revisions to Market Rule 1.

Filed Date: 08/14/2007.

Accession Number: 20070815-0028.

Comment Date: 5 p.m. Eastern Time on Tuesday, September 04, 2007.

Docket Numbers: ER07-1284-000.

Applicants: ISO New England Inc. & New England Power.

Description: ISO New England, Inc & New England Power Pool Participants Committee submits 2nd Revised Sheet 332 et al. and supporting affidavit of Shannon L Hann reflecting proposed revisions to Market Rule 1.

Filed Date: 08/14/2007.

Accession Number: 20070815-0156.

Comment Date: 5 p.m. Eastern Time on Tuesday, September 04, 2007.

Docket Numbers: ER07-1285-000.

Applicants: Niagara Mohawk Power Corporation.

Description: Niagara Mohawk Power Corp, d/b/a National Grid submits an interconnection agreement dated 10/31/91 with American Ref-Fuel Company of Niagara, LP.

Filed Date: 08/14/2007.

Accession Number: 20070815-0158.

Comment Date: 5 p.m. Eastern Time on Tuesday, September 04, 2007.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov, or call (866) 208-3676 (toll free). For TTY, call (202) 502-8659.

Nathaniel J. Davis, Sr.,
Acting Deputy Secretary.

[FR Doc. E7-16536 Filed 8-21-07; 8:45 am]

BILLING CODE 6717-01-P